U.S. INTERNATIONAL DEVELOPMENT FINANCE CORPORATION

Notice of Public Hearing

AGENCY: U.S. International Development Finance Corporation.

ACTION: Announcement of public hearing.

SUMMARY: The Board of Directors of the U.S. International Development Finance Corporation (“DFC”) will hold a public hearing on December 6, 2023. This hearing will afford an opportunity for any person to present views in accordance with section 1413(c) of the BUILD Act of 2018. Those wishing to present at the hearing must provide advance notice to the agency as detailed below.

DATES: Public hearing: 2:00 p.m. EST, Wednesday, December 6, 2023.

Registration: To attend, present at, or submit a written statement to the Board prior to the public hearing, individuals must notify DFC Acting Deputy Corporate Secretary Abigail Wade at corporate.secretary@dfc.gov at by 5:00 p.m. EST, Tuesday, November 28, 2023.

Notices of intent to attend or present at the public hearing must include the individual's name, title, organization, address, email address, phone number, and a concise summary of the subject matter to be presented. Oral presentations may not exceed five minutes and may be reduced proportionately, if necessary, to afford all participants an opportunity to be heard.

Written statements submitted to the Board prior to the public hearing must include the individual's name, title, organization, address, email address, and phone number. Statements must be typewritten, double-spaced, and less than ten pages in length.

Deborah Papadopoulos,
Records Management Specialist.

[FR Doc. 2023-24459 Filed 11-3-23; 8:45 am]

BILLING CODE P